DEPARTMENT OF TRANSPORTATION

Federal Aviation Administration

14 CFR Part 71

[Docket No. FAA-2010-1016; Airspace Docket No. 11-ACE-6]

RIN 2120-AA66

Amendment of VOR Federal Airways V-81, V-89, and V-169 in the Vicinity of Chadron, NE

AGENCY: Federal Aviation Administration (FAA), DOT.

ACTION: Final rule.

SUMMARY: This action amends the legal description of the VHF omnidirectional range (VOR) Federal airways V-81, V-89, and V-169 in the vicinity of Chadron, Nebraska. The FAA is taking this action because the Chadron VOR distance measuring equipment (DME), included as part of the V-81, V-89, and V-169 route structure, is being renamed the Toadstool VOR/DME to avoid confusion with Chadron Airport that shares the same identifier.

DATES: Effective Dates: 0901 UTC, April 5, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

The Rule

This action amends Title 14 Code of Federal Regulations (14 CFR) part 71 by amending the legal description of VOR Federal Airways V-81, V-89, and V-169, in the vicinity of Chadron, NE. Currently, V-81, V-89, and V-169 include the Chadron, NE, [VOR/DME] as part of their route structure. The Chadron VOR/DME and the Chadron Airport share the same name and identifier (CDR), but are located nineteen nautical miles apart. A navigation facility and airport having the same name and identifier causes frequent confusion to air traffic automation systems, as well as pilot/controller communications. To eliminate confusion, and a potential flight safety issue, the Chadron VOR/DME is renamed the Toadstool VOR/DME and assigned a new facility identifier (TST). All VOR Federal airways with Chadron, NE, [VOR/DME] included in their legal description are amended to reflect the Toadstool, NE, [VOR/DME] name change. The name change of the VOR/DME will coincide with the effective date of this rule.

Additionally, the exclusionary language in the V-169 legal description addressing the Devils Lake West Military Operations Area (MOA) has been simplified for clarity. No changes to the current operational use are expected to occur from this editorial amendment.

Since this action merely involves editorial changes in the legal descriptions of VOR Federal airways, and does not involve a change in the dimensions or operating requirements of that airspace, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises the legal description of four VOR Federal Airways in the vicinity of Chadron, NE.

Domestic VOR Federal Airways are published in paragraph 6010(a) of FAA Order 7400.9V, dated August 9, 2011, and effective September 15, 2011, which is incorporated by reference in 14 CFR 71.1. The domestic VOR Federal Airways listed in this document will be published subsequently in the Order.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 6010(a)—Domestic VOR Federal Airways

* * * * *

V-81 [Amended]

From Chihuahua, Mexico; Marfa, TX; Fort Stockton, TX; Midland, TX; Lubbock, TX; Plainview, TX; Panhandle, TX; Dalhart, TX; Tobe, CO; Pueblo, CO; Black Forest, CO; Jeffco, CO; Cheyenne, WY; Scottsbluff, NE; to Toadstool, NE. The airspace outside the United States is excluded.

* * * * *

V-89 [Amended]

From Gill, CO; INT Gill 003° and Cheyenne, WY, 131° radials; Cheyenne; to Toadstool, NE.

* * * * *

V-169 [Amended]

From Tobe, CO; 69 MSL, Hugo, CO; 38 miles, 67MSL, Thurman, CO; Akron, CO; Sidney, NE; Scottsbluff, NE; Toadstool, NE; Rapid City, SD; Dupree, SD; Bismarck, ND; to Devils Lake, ND. The airspace within the Devils Lake West MOA is excluded when activated by NOTAM.

* * * * *

Issued in Washington, DC on November 14, 2011.
Gary A. Norek,
Acting Manager, Airspace, Regulations and ATC Procedures Group.

[FR Doc. 2011-29895 Filed 11-21-11; 8:45 am]

BILLING CODE 4910-13-P